DEPARTMENT OF HOUSING AND URBAN DEVELOPMENT

[Docket No. FR-6131-N-02]

The Performance Review Board

AGENCY: Office of the Deputy Secretary, HUD.

ACTION: Amended notice of appointments.

SUMMARY: On October 18, 2018, the Department of Housing and Urban Development published a notice announcing the establishment of two Performance Review Boards to make recommendations to the appointing authority on the performance of its senior executives. The notice inadvertently omitted a member included in the Deputy Secretary's September 24, 2018, memorandum appointing individuals to the Performance Review Board. Today's notice amends the October 18, 2018, notice by adding Nelson Bregon to the Departmental Performance Review Board to review career SES performance.

For the convenience of the reader, the entire corrected list of membership on the Departmental Performance Review Boards is provided. Pamela H. Patenaude (Chair), Patricia Hoban-Moore, Felicia Purifoy, Danielle Bastarache, John Benison, Nelson Bregon, Virginia Sardone, Bryan Greene, Ivery Himes, George Tomchick, and Kurt Usowski will serve as members of the Departmental Performance Review Board to review career SES performance. Seth D. Appleton, Maren Kasper, John Bravacos, Ralph Gaines, and Joseph Grassi will serve as members of the Departmental Performance Review Board to review noncareer SES performance. The address is: Department of Housing and Urban Development, Washington, DC 20410-0050.

FOR FURTHER INFORMATION CONTACT: Persons desiring any further information about the Performance Review Board and its members may contact Lynette Warren, Director, Office of Executive Resources, Department of Housing and Urban Development, Washington, DC 20410. Telephone (202) 708-1381. (This is not a toll-free number).

Dated: November 19, 2018.
Pamela H. Patenaude,
Deputy Secretary.

[FR Doc. 2018-25648 Filed 11-23-18; 8:45 am]

BILLING CODE 4210-67-P